DEPARTMENT OF ENERGY

Federal Energy Regulatory Commission

Notice of Application and Soliciting Comments, Motions to Intervene, and Protests

August 2, 2006.

Take notice that the following application has been filed with the Commission and is available for public inspection:

a. Application Type: Shoreline Management Plan.

b. Project No: 2576-083.

c. Date Filed: July 27, 2006.

d. Applicant: Northeast Generation Company (NGC).

e. Name of Project: Housatonic River Hydroelectric Project.

f. Location: The project is located on the Housatonic River, in Fairfield, Litchfield and New Haven Counties, Connecticut.

g. Filed Pursuant to: Federal Power Act, 16 U.S.C. 791(a)-825(r).

h. Applicant Contact: Mr. Robert Gates, Station Manager—Connecticut Hydro, 143 West St., Ext. Suite E, New Milford, CT 06776, (860) 355-6527.

i. FERC Contact: Any questions on this notice should be addressed to Isis Johnson at (202) 502-6346, or by E-mail: Isis.Johnson@ferc.gov.

j. Deadline for filing comments: September 1, 2006.

All documents (original and eight copies) should be filed with: Ms. Magalie R. Salas, Secretary, Federal Energy Regulatory Commission, DHAC, PJ-12.1, 888 First Street, NE., Washington DC 20426. Please include the project number (2576-083) on any comments or motions filed. Comments, protests and interventions may be filed electronically via the Internet in lieu of paper. See, 18 CFR 385.2001(a)(1)(iii) and the instructions on the Commission's Web site under the “e-Filing” link. The Commission strongly encourages electronic filings.

k. Description of Proposal: NGC, licensee for the Housatonic River Project, submitted a Shoreline Management Plan (SMP) as required by the project license. The proposed SMP provides for the maintenance of safe public access to lake shorelines and riverfront lands and waters, as well as for the stewardship and development of shoreline/riverfront areas. The SMP also contains provisions to promote the conservation of land and water-related resources, in addition to promoting education and public awareness of resource protection and management programs. The SMP also includes guidelines for permitting new and existing structures on project lands, and a fee schedule to recover the administrative costs of implementing the permitting program.

l. This filing is available for review at the Commission in the Public Reference Room or may be viewed on the Commission's Web site at http://www.ferc.gov using the “eLibrary” link. Enter the docket number excluding the last three digits in the docket number field to access the document. For assistance, contact FERC Online Support at FERCOnlineSupport@ferc.gov or call toll-free 1-866-208-3676, or for TTY, call (202) 502-8659.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, 385.211, 385.214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filings must bear in all capital letters the title “COMMENTS”, “RECOMMENDATIONS FOR TERMS AND CONDITIONS”, “PROTEST”, or “MOTION TO INTERVENE”, as applicable, and the Project Number of the particular application to which the filing refers. A copy of any motion to intervene must also be served upon each representative of the Applicant specified in the particular application.

p. Agency Comments: Federal, state, and local agencies are invited to file comments on the described application. A copy of the application may be obtained by agencies directly from the Applicant. If an agency does not file comments within the time specified for filing comments, it will be presumed to have no comments. One copy of an agency's comments must also be sent to the Applicant's representatives.

Magalie R. Salas,
Secretary.

[FR Doc. E6-13049 Filed 8-9-06; 8:45 am]

BILLING CODE 6717-01-P